DEPARTMENT OF ENERGY

Electricity Advisory Committee

AGENCY: Office of Electricity, Department of Energy.

ACTION: Notice of open meeting.

SUMMARY: This notice announces a meeting of the Electricity Advisory Committee. The Federal Advisory Committee Act requires that public notice of these meetings be announced in the Federal Register.

DATES: Wednesday, March 13, 2019; 12:00 p.m.-6:00 p.m. EST; Thursday, March 14, 2019; 8:00 a.m.-12:00 p.m. EST.

ADDRESSES: National Rural Electric Cooperative Association, 4301 Wilson Blvd., Arlington, Virginia 22203 (Ballston Metro Stop).

FOR FURTHER INFORMATION CONTACT: Lawrence Mansueti, Designated Federal Officer, Office of Electricity, U.S. Department of Energy, Forrestal Building, Room 8G-017, 1000 Independence Avenue SW, Washington, DC 20585; Telephone: (202) 586-2588 or Email: lawrence.mansueti@hq.doe.gov.

SUPPLEMENTARY INFORMATION:

Purpose of the Committee: The Electricity Advisory Committee (EAC) was established in accordance with the provisions of the Federal Advisory Committee Act (FACA), as amended, 5 U.S.C., App. 2, to provide advice to the U.S. Department of Energy (DOE) in implementing the Energy Policy Act of 2005, executing the Energy Independence and Security Act of 2007, and modernizing the nation's electricity delivery infrastructure. The EAC is composed of individuals of diverse backgrounds selected for their technical expertise and experience, established records of distinguished professional service, and their knowledge of issues that pertain to electricity.

Tentative Agenda

March 13, 2019

12:00 p.m.-1:00 p.m. Registration

1:00 p.m.-1:20 p.m. Welcome, Introductions, Developments since the October 2018 Meeting

1:20 p.m.-1:50 p.m. Update on OE Programs and Initiatives

1:50 p.m.-2:20 p.m. Presentation: OE Activities Related to Data Analytics

2:20 p.m.-2:40 p.m. Break

2:40 p.m.-5:00 p.m. Panel Session: Value Proposition for Big Data Analytics

5:00 p.m.-5:15 p.m. Break

5:15 p.m.-5:45 p.m. Energy Storage Subcommittee Update

5:45 p.m.-6:00 p.m. Wrap-up and Adjourn Day 1

March 14, 2019

8:00 a.m.-8:10 a.m. Day 2 Opening Remarks

8:10 a.m.-8:50 a.m. Energy Sector Cybersecurity Activities in Federal Government

8:50 a.m.-11:00 a.m. Panel Session: Electric Sector Cybersecurity Preparedness: Separating Facts from Fear, Uncertainty and Doubt

11:00 a.m.-11:15 a.m. Break

11:15 a.m.-11:40 a.m. Smart Grid Subcommittee Update

11:40 a.m.-11:50 a.m. Public Comments

11:50 a.m.-12:00 p.m. Wrap-up and Adjourn

The meeting agenda may change to accommodate EAC business. For EAC agenda updates, see the EAC website at: http://energy.gov/oe/services/electricity-advisory-committee-eac.

Public Participation: The EAC welcomes the attendance of the public at its meetings. Individuals who wish to offer public comments at the EAC meeting may do so on Thursday, March 14, 2019, but must register at the registration table in advance. Approximately 10 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee Open Meeting,” to Mr. Lawrence Mansueti at 202-586-1472 (Fax) or email: Lawrence.Mansueti@hq.doe.gov.

Minutes: The minutes of the EAC meeting will be posted on the EAC web page at http://energy.gov/oe/services/electricity-advisory-committee-eac. They can also be obtained by contacting Mr. Lawrence Mansueti at the address above.

Signed in Washington, DC, on February 14, 2019.
LaTanya R. Butler,
Deputy Committee Management Officer.

[FR Doc. 2019-02844 Filed 2-20-19; 8:45 am]

BILLING CODE 6450-01-P